ENVIRONMENTAL PROTECTION AGENCY

[FRL-7565-6]

Comprehensive Environmental Response, Compensation and Liability Act (CERCLA) or Superfund, Section 104(k)(6); Announcement of Proposal Deadline for the Competition for the 2004 National Brownfields Job Training Grants

AGENCY: Environmental Protection Agency.

ACTION: Notice of the availability of Brownfields Job Training Grant application guidelines and deadline for submissions of proposals.

SUMMARY: The United States Environmental Protection Agency (EPA) will begin to accept proposals for the National Brownfields Job Training Grants on September 30, 2003. This notice provides information on how to obtain the application guidelines. These grants provide training to facilitate site assessment, remediation of brownfields sites, or site preparation (see Catalogue of Federal Domestic Assistance Number: 66.815).

The National brownfields job training grants will be awarded on a competitive basis using a one-step proposal selection process. To ensure a fair selection process, evaluation panels consisting of EPA Regional and Headquarters staff and other federal agency representatives will assess how well the proposals meet the selection criteria outlined in the application booklet, Proposal Guidelines for Brownfields Job Training Grants (September 2003). Proposals will be evaluated and ranked by National Evaluation Panels. Final selections will be made by EPA Senior Management based upon the ranking of Final Proposals by the National Evaluation Panels. Applicants are encouraged to contact and, if possible, meet with EPA Regional Brownfields Contacts.

DATES: This action is effective as of September 30, 2003. EPA expects to make up to 10 job training grant awards in fiscal year 2004 contingent upon the availability of funds. The application deadline for Proposals for the 2004 Job Training grants is December 1, 2003, proposals must be postmarked by USPS or delivered to U.S. EPA Headquarters no later than December 1, 2003, and a duplicate copy sent to the appropriate U.S. EPA Regional Office by other means.

ADDRESSES: Mailing addresses for U.S. EPA Regional Offices and U.S. EPA Headquarters are provided in the Proposal Guidelines.

OBTAINING PROPOSAL GUIDELINES: The proposal guidelines are available via the Internet: http://www.epa.gov/brownfields/.

Copies of the proposal guidelines will also be mailed upon request. Requests should be made by calling the U.S. EPA Call Center at the following numbers: Washington, DC Metro Area at 703-412-9810; Outside Washington, DC Metro at 1-800-424-9346; TDD for the Hearing Impaired at 1-800-553-7672.

In order to ensure that the guidelines are received in time to be used in the preparation of the proposal, applicants should request a copy as soon as possible and in any event no later than ten (10) working days before the proposal due date. Applicants who request copies after that date might not receive the proposal guidelines in time to prepare and submit a responsive proposal.

FOR FURTHER INFORMATION CONTACT: EPA's Office of Solid Waste and Emergency Response, Office of Brownfields Cleanup and Redevelopment, (202) 566-2777.

SUPPLEMENTARY INFORMATION: On January 11, 2002, President George W. Bush signed into law the Small Business Liability Relief and Brownfields Revitalization Act. This act amended the Comprehensive Environmental Response, Compensation and Liability Act to authorize federal financial assistance for brownfields revitalization, including grants for assessment, cleanup, and job training.

Funding for the brownfields job-training grants is authorized under section 104(k)(6) of the Comprehensive Environmental Response, Compensation, and Liability Act of 1980, as amended, (CERCLA), 42 U.S.C. 9604(k)(6). Eligibility for Brownfields grants is limited to “eligible entities” as defined in section 104(k)(1) of CERCLA and nonprofit organizations as defined in section 4(6) of the Federal Financial Assistance Management Improvement Act of 1999, Public Law 106-107. “Eligible entities” include a General Purpose Unit of Local Government; Land Clearance Authority or other quasi-governmental entity that operates under the supervision and control of, or as an agent of, a general purpose unit of local government; Governmental Entity Created by State Legislature; Regional council or group of general purpose units of local government; Redevelopment Agency that is chartered or otherwise sanctioned by a state; State; Indian Tribe other than in Alaska; and Alaska Native Regional Corporation, Alaska Native Village Corporation, and Metlakatla Indian Community and non profit organizations. For the purposes of the brownfields grant program, EPA will use the definition of nonprofit organizations contained in section 4(6) of the Federal Financial Assistance Management Improvement Act of 1999, Public Law 106-107. The term “nonprofit organization” means any corporation, trust, association, cooperative, or other organization that is operated primarily for scientific, educational, service, charitable, or similar purpose in the public interest; is not organized primarily for profit; and uses net proceeds to maintain, improve, or expand the operation of the organization.

In addition, Intertribal Consortia, other than those composed of ineligible Alaskan tribes, are eligible to apply for the brownfields job training grants.

The evaluation panels will review the proposals carefully and assess each response based on how well it addresses the criteria, briefly outlined below. There are two different types of criteria—threshold criteria and ranking criteria. Responses to the criteria will be used to determine whether to make an award and the amount of funds to be awarded. There is no guarantee of an award.

Job Training Grants

Threshold Criteria

A. Location of Project

B. Applicant Eligibility

C. Proof of Non-Duplication of Effort

Ranking Criteria

A. Community Need (a maximum of 10 points may be received for this criterion)

B. Institutional Capacity (a maximum of 15 points may be received for this criterion)

C. Training Program Objectives and Plans (a maximum of 30 points may be received for this criterion)

D. Budget, Schedule and Leveraging (a maximum of 20 points may be received for this criterion)

E. Community Involvement and Partnerships (a maximum of 15 points may be received for this criterion)

F. Measures of Success (a maximum of 10 points may be received for this criterion)

EPA decisions may take into account other statutory and policy considerations, such as urban and non-urban distribution and other geographic factors; designation as a Federal Empowerment Zone, Enterprise Community, or Renewal Community; population; and whether the applicant is a federally recognized Indian tribe.

Dated: September 24, 2003.
Linda Garczynski,
Director, Office of Brownfields Cleanup and Redevelopment, Office of Solid Waste and Emergency Response.

[FR Doc. 03-24780 Filed 9-29-03; 8:45 am]

BILLING CODE 6560-50-P